DEPARTMENT OF LABOR

Employment and Training Administration

Agency Information Collection Activities; OMB Approval; Weekly Claims and Extended Benefits Data and Weekly Initial and Continued Weeks Claimed

ACTION: Notice.

SUMMARY: The notice announces Office of Management and Budget (OMB) approval and effective date for the unemployment insurance (UI), Extended Benefits-related Information Collection Request (ICR) pursuant to the Paperwork Reduction Act of 1995 (PRA) (44 U.S.C. 3501-3520).

DATES: The information collection referenced in this notice will take effect on October 24, 2016, the same date as for all other aspects of the Final Rule published August 24, 2016 (81 FR 57764).

ADDRESSES: A copy of this ICR with applicable supporting documentation; including a description of the likely respondents, proposed frequency of response, and estimated total burden may be obtained free of charge from the RegInfo.gov Web site at http://www.reginfo.gov/public/do/PRAViewICR?ref_nbr=201602-1205-001 or by contacting Sandra Trujillo.

On an ongoing basis, ETA welcomes comments on its information collections. Submit comments about this information collection by mail or courier to Sandra Trujillo, Office of Unemployment Insurance, Employment & Training Administration, U.S. Department of Labor, Room S-4524, 200 Constitution Avenue NW., Washington, DC 20210; by Fax: 202-693-3229 (this is not a toll-free number); or by email: Trujillo.Sandra@dol.gov.

FOR FURTHER INFORMATION CONTACT: Ronald Wilus, Division of Fiscal and Actuarial Services Chief, Office of Unemployment Insurance, by telephone at 202-693-2931 (this is not a toll-free number) or by mail at Employment & Training Administration, U.S. Department of Labor, Room S-4524, 200 Constitution Avenue NW., Washington, DC 20210.

SUPPLEMENTARY INFORMATION: OMB issued a formal Notice of Approval for the information collection requirements under the PRA contained in the Federal-State Unemployment Compensation Program; Implementing the Total Unemployment Rate as an Extended Benefits Indicator and Amending for Technical Corrections Final Rule published in the Federal Register on August 24, 2016 (81 FR 57764). The expiration date for OMB authorization for OMB control number 1205-0028 and the information collection are September 30, 2019. The information collection is summarized as follows below.

Agency: DOL-ETA.

Title of Collection: Weekly Claims and Extended Benefits Data and Weekly Initial and Continued Weeks Claimed.

OMB Control Number: 1205-0028.

Affected Public: State, Local, and Tribal Governments.

Total Estimated Number of Respondents: 53.

Total Estimated Number of Responses: 5,512.

Total Estimated Annual Time Burden: 3,675 hours.

Total Estimated Annual Other Costs Burden: $0.

Dated: October 13, 2016.
Portia Wu,
Assistant Secretary for Employment and Training.

[FR Doc. 2016-25400 Filed 10-19-16; 8:45 am]

BILLING CODE 4510-FW-P